DEPARTMENT OF AGRICULTURE

Grain Inspection, Packers and Stockyards Administration

Advisory Committee Meeting

AGENCY: Grain Inspection, Packers and Stockyards Administration, USDA.

ACTION: Notice of advisory committee meeting.

SUMMARY: Pursuant to the Federal Advisory Committee Act, this constitutes notice of the upcoming meeting of the Grain Inspection Advisory Committee. The Grain Inspection Advisory Committee meets twice annually to advise GIPSA on the programs and services we deliver under the U.S. Grain Standards Act. Recommendations by the committee help us to better meet the needs of our customers who operate in a dynamic and changing marketplace.

DATES: December 12 , 7:30 a.m. to 5p.m.; and December 13, 2006, 7:30 a.m. to 1 p.m.

ADDRESSES: The Advisory Committee meeting will take place at the Marriott at Metro Center, 775 12th Street NW., Washington, DC 20005.

Requests to address the Advisory Committee at the meeting or written comments may be sent to: Administrator, GIPSA, U.S. Department of Agriculture, 1400 Independence Avenue, SW., STOP 3601, Washington, DC 20250-3601. Requests and comments may also be Faxed to (202) 690-2755.

FOR FURTHER INFORMATION CONTACT: Ms. Terri Henry, (202) 205-8281 or by e-mail at Terri.L.Henry@usda.gov.

SUPPLEMENTARY INFORMATION: The purpose of the Advisory Committee is to provide advice to the Administrator of the Grain Inspection, Packers and Stockyards Administration with respect to the implementation of the U.S. Grain Standards Act (7 U.S.C. 71 et seq.). Relevant information about the Advisory Committee is available on the GIPSA Web site. Go to http://www.gisa.usda.gov and under the section ?I Want To * * *?, click on ?Learn about the Advisory Committee.?

The agenda will include an update on the agency's finances, update on agency succession plan, use of third-party contracting, central monitoring, international activities, impact of ethanol industry on agency operations, and liberty link rice.

For a copy of the agenda please contact Terri Henry, (202) 205-8281 or by e-mail Terri.L.Henry@usda.gov.

Public participation will be limited to written statements, unless permission is received from the Committee Chairman to orally address the Advisory Committee. The meeting will be open to the public.

Persons with disabilities who require alternative means of communication of program information or related accommodations should contact Terri Henry, at the telephone number listed above.

David R. Shipman,
Acting Administrator, Grain Inspection, Packers and Stockyards Administration.

[FR Doc. E6-19782 Filed 11-21-06; 8:45 am]

BILLING CODE 3410-KD-P